DEPARTMENT OF LABOR

Mine Safety and Health Administration

Petitions for Modification of Application of Existing Mandatory Safety Standards

AGENCY: Mine Safety and Health Administration (MSHA), Labor.

ACTION: Notice.

SUMMARY: Section 101(c) of the Federal Mine Safety and Health Act of 1977 and 30 CFR part 44 govern the application, processing, and disposition of petitions for modification. This notice is a summary of petitions for modification filed by the parties listed below to modify the application of existing mandatory safety standards published in Title 30 of the Code of Federal Regulations.

DATES: All comments on the petitions must be received by the Office of Standards, Regulations and Variances on or before May 20, 2011.

ADDRESSES: You may submit your comments, identified by “docket number” on the subject line, by any of the following methods:

1. Electronic Mail: zzMSHA-comments@dol.gov. Include the docket number of the petition in the subject line of the message.

2. Facsimile: 1-202-693-9441.

3. Regular Mail: MSHA, Office of Standards, Regulations and Variances, 1100 Wilson Boulevard, Room 2350, Arlington, Virginia 22209-3939, Attention: Roslyn B. Fontaine, Acting Director, Office of Standards, Regulations and Variances.

4. Hand-Delivery or Courier: MSHA, Office of Standards, Regulations and Variances, 1100 Wilson Boulevard, Room 2350, Arlington, Virginia 22209-3939, Attention: Roslyn B. Fontaine, Acting Director, Office of Standards, Regulations and Variances.

MSHA will consider only comments postmarked by the U.S. Postal Service or proof of delivery from another delivery service such as UPS or Federal Express on or before the deadline for comments. Individuals who submit comments by hand-delivery are required to check in at the receptionist desk on the 21st floor.

Individuals may inspect copies of the petitions and comments during normal business hours at the address listed above.

FOR FURTHER INFORMATION CONTACT: Barbara Barron, Office of Standards, Regulations and Variances at 202-693-9447 (Voice), barron.barbara@dol.gov (E-mail), or 202-693-9441 (Telefax). [These are not toll-free numbers.]

SUPPLEMENTARY INFORMATION:

I. Background

Section 101(c) of the Federal Mine Safety and Health Act of 1977 (Mine Act) allows the mine operator or representative of miners to file a petition to modify the application of any mandatory safety standard to a coal or other mine if the Secretary determines that: (1) An alternative method of achieving the result of such standard exists which will at all times guarantee no less than the same measure of protection afforded the miners of such mine by such standard; or (2) that the application of such standard to such mine will result in a diminution of safety to the miners in such mine. In addition, the regulations at 30 CFR 44.10 and 44.11 establish the requirements and procedures for filing petitions for modification.

II. Petitions for Modification

Docket Number: M-2011-007-C.

Petitioner: Rosebud Mining Company, P.O. Box 1025, Northern Cambria, PA 15714

Mine: Beaver Valley Mine, MSHA Mine I.D No. 36-08725, located in Beaver County, Pennsylvania. Bergholz Mine, MSHA Mine I.D No. 33-04565, located in Jefferson County, Ohio. Dutch Run Mine, MSHA Mine I.D No. 36-08701; Darmac No. 2 Mine, MSHA I.D. No. 36-08135; and Logansport Mine, MSHA I.D. No. 36-08841, located in Armstrong County, Pennsylvania. Harmony Mine, MSHA Mine I.D No. 36-09477, located in Clearfield County, Pennsylvania. Rossmoyne Mine, MSHA Mine I.D No. 36-09075; Knob Creek Mine, MSHA I.D. No. 36-09394; Starford Mine, MSHA I.D. No. 36-09637, located in Indiana County, Pennsylvania. Tusky Mine, MSHA I.D. No. 33-04509, located in Tuscarawas County, Ohio. Twin Rocks Mine, MSHA I.D. No. 36-08836, located in Cambria County, Pennsylvania.

Regulation Affected: 30 CFR 75.503 (Permissible electric face equipment; maintenance) and 30 CFR 18.35(a)(5)(i) (Portable trailing cables and cords).

Modification Request: The petitioner requests a modification of the existing standard to permit the use of 480 volt trailing cables with a maximum length of 1200 feet when #2 American Wire Gauge (AWG) cable is used and 480 volt trailing cables with a maximum length of 950 feet when #4 AWG cable is used on Fletcher Roof Ranger II roof bolters. The petitioner states that: (1) The maximum length of the 480 volt trailing cables will be 1200 feet when #2 AWG cable is being used. The maximum length of 480 volt trailing cable will be 950 feet when #4 AWG cable is being used; (2) the trailing cable for the 480 volt Fletcher Roof Ranger II bolters will not be smaller than #4 AWG cable; (3) all circuit breakers used to protect the #2 AWG trailing cable or the #4 AWG trailing cable exceeding 700 feet in length will have instantaneous trip units calibrated to trip at 500 amperes. The trip setting of these circuit breakers must be sealed to ensure that they cannot be changed, and these breakers will have permanent, legible labels. Each label will identify the circuit breaker as being suitable for protecting the cables; (4) replacement circuit breakers and/or instantaneous trip units, used to protect #2 AWG trailing cable or the #4 AWG trailing cable will be calibrated to trip at 500 amperes, and will be sealed; (5) all components that provide short-circuit protection will have sufficient interruption rating in accordance with the maximum calculated fault currents available; (6) during each production day, the trailing cables, and the circuit breakers will be examined in accordance with all 30 CFR provisions; (7) permanent warning labels will be installed and maintained on the load center identifying the location of each short-circuit protection device. These labels will warn miners not to change or alter the settings of these devices; (8) if the affected trailing cables are damaged in any way during the shift, the cable will be de-energized and repairs made; (9) the proposed alternative method will not be implemented until all miners who have been designated to operate the Roof Ranger II, or any other person designated to examine the trailing cables or trip settings on the circuit breakers, have received proper training; (10) within sixty days after this proposed decision and order becomes final, proposed revisions for the approved Part 48 training plan will be submitted to the District Manager. The training will include the following elements: (a) The hazards of setting the short-circuit device(s) too high to adequately protect the trailing cables; (b) how to verify that the circuit interrupting device(s) protecting the trailing cable(s) are properly set and maintained; (c) mining methods and operating procedures that will protect the trailing cables against damage; and (d) the proper procedure for examining the trailing cable to insure that the cable(s) are in safe operating condition by visually inspecting the entire cable, observing the insulation, the integrity of the splices, and nicks and abrasions. The petitioner asserts that the proposed alternative method will at all times guarantee no less than the same measure of protection afforded by the standard.

Docket Number: M-2011-008-C.

Petitioner: Blue Mountain Energy, Inc., 3607 County Road #65, Rangely, Colorado 81648.

Mine: Deserado Mine, MSHA Mine I.D. No. 05-03505, located in Rio Blanco County, Colorado.

Regulation Affected: 30 CFR 75.503 (Permissible electric face equipment; maintenance) and 30 CFR 18.35(a)(5)(i) (Portable trailing cables and cords).

Modification Request: The petitioner requests a modification of the existing standard to permit the length of trailing cables to be increased for continuous mining machines, shuttle cars, and roof bolters beyond the maximum lengths allowed by Part 18. Maximum lengths of various sizes of trailing cables, when protected with circuit breakers with instantaneous trip settings are not to exceed the values given in Tables 8 and 9, in Appendix I, of Part 18. The petitioner proposes to extend the continuous mining machine trailing cables, #2/0 American Wire Gauge (AWG) to a maximum length of 1,000 feet, the shuttle car trailing cables #2 AWG to a maximum length of 850 feet, and the roof bolter trailing cables #2 AWG to a maximum length of 850 feet. Table 9, Appendix I, of Part 18 limits the maximum length of #2/0 AWG trailing cables to 850 feet, and the maximum length of #2 AWG trailing cables to 700 feet. The petitioner states that: (1) The short-circuit calculations that were performed show that the proposed alternative method will meet the following requirements: (a) Each trailing cable will be protected by an automatic three-pole molded case circuit breaker equipped with a means to provide short-circuit, grounded phase, under-voltage, and ground monitoring protection; (b) the trailing cable short-circuit protection will be provided by means of an adjustable instantaneous trip unit that is integral to the circuit breaker that is set as required by the statutory provision 30 CFR 75.601-1, or 75 percent of the minimum available fault current, whichever is less. The short-circuit calculations determine the minimum phase-to-phase fault current available for each cable size, type, and length desired to be extended to lengths greater than allowable by statutory provisions; and (c) section 75.601 requires that “short-circuit protection for trailing cables be provided by automatic circuit breaker or other no less effective device approved by the Secretary of adequate current-interrupting capacity in each ungrounded conductor”. The short-circuit calculations also determine the maximum fault duties for the circuit breakers that protect the trailing cables to assure that they have adequate interrupting capacities. (2) The short-circuit calculations also include the addition of distribution boxes that will power the continuous miner, shuttle cars, and roof bolter. The distribution boxes will be mounted on a monorail and each will be supplied from the power center by means of 350kemil, 2kV, Type SHD-GC power cable that is 700 feet long. There will be one distribution box that will power the roof bolter and shuttle cars, and one 1,000V distribution box that will power the continuous miner. The resulting system is referred to as the “Deserado Mine Development Monorail System”. The continuous mining machines are rated at 950 volts Root Mean Squared (RMS) nominal, three-phase, 60 Hertz, the shuttle cars are rated at 460 volts RMS nominal, three-phase, 60 Hertz; and the roof bolters are rated at 460 volts RMS nominal, three-phase, 60 Hertz. The nominal voltage of the continuous miner section electrical distribution system will not exceed 1,000 volts and 480 volts for the respective section transformer secondary voltages. Actual voltage at which the circuits or systems operate may vary slightly from the nominal voltage within a range that permits satisfactory operation of the equipment; (3) The one-line diagrams and short-circuit calculation models included in the calculations reflect the actual existing Deserado Mine high-voltage electrical distribution system and continuous miner section electrical power distribution and control system to be utilized; (4) the petitioner desires approval to extend the length of the specified trailing cables to improve the safety and efficiency of the mining operation; and (5) due to the unusually large support pillar size in the longwall gate entries, the longer cable lengths will allow a more methodical mining process. Safety will be enhanced due to the decrease in power moves, cable handling, and cable damage. Electrical protection and safety will not be diminished since the trailing cables will still be provided with short-circuit protection that is set conservatively. The petitioner asserts that the proposed alternative method will at all times guarantee no less than the same measure of protection to all miners as would be provided by the standard.

Docket Number: M-2011-009-C.

Petitioner: River View Coal, LLC, 835 St., Route 1179, Waverly, Kentucky 42462.

Mine: River View Mine, MSHA Mine I.D. No. 15-19374, located in Union County, Kentucky.

Regulation Affected: 30 CFR 75.1100-3 (Condition and examination of firefighting equipment).

Modification Request: The petitioner requests a modification of the existing standard to permit an alternative method of compliance for maintaining the condition and examination of firefighting equipment. The petitioner proposes to maintain the slope belt waterline as a “dry line”. The petitioner states that: (1) River View Mine is a 16 MMU continuous miner operation located near Waverly, Union County, Kentucky. The mine operates in two coal seams, #11 and the #9 seam separated by approximately 110 feet of competent interburden, the #9 seam being the lowest seam. The mine is accessed by one slope and one intake return dual compartment shaft. The slope is 16 degrees, 1625 feet, dual compartment, with the upper compartment containing the slope belt, and the lower compartment containing the track entry used for lowering heavy equipment; and (2) As an alternative to maintaining the waterline as being “charged” the petitioner proposes the following: (a) The 2 inch waterline will be installed the full length of the slope belt with fire hydrants (water outlets) located every 300 feet or closer if necessary. The water line will be maintained as a “dry line” year round; (b) with two electronically actuated solenoid valves installed in parallel will be located inline of the slope belt waterline at the tailpiece of the slope belt in the #9 seam. Electrical power will be necessary to hold these valves in closed position. The valves will return to the open position (charging the waterline) upon loss of voltage or when activated; (c) the solenoid valves will be connected to the CO monitoring system through PLC programming. The valves will be automatically actuated if any of the CO sensors along the slope belt detect a level of 25 parts per million (ppm) for longer than 180 seconds; (d) a manually operated bypass valve will be installed in parallel with the automatic valves. This manual valve will normally be closed; (e) water will automatically charge the waterline if either the automatic valves or the manual bypass is moved to the open position; (f) the solenoid valves will be capable of being actuated at a manned surface location, either the CO monitoring room or the security station. Either, two miners on each shift or the security station staff will be trained to actuate the solenoid valves. The security station is staffed 24 hours a day, 7 days a week; (g) a manually operated outlet will be installed downstream of the solenoid valves. The manual valve will be designated as a test/drain valve and will be closed except when testing the system or when draining water after testing or actuation; (h) a second manually operated valve will be installed just downstream of the test/drain valve. This valve will be open at all times, except when testing of the system is required. During testing, this valve will isolate the waterline that supplies the fire hydrants along the slope belt. This will allow the solenoid valves to be tested and will assure that the system is functioning properly without filling the entire length of the waterline, thus creating the need to drain a large volume of water; (i) all valves and switches that are part of this system will be clearly marked and labeled as to their intended purpose; (j) the system will be examined monthly and the results of this examination will be recorded; (k) pressure relief valves will be located along the waterline to relieve pressure (entrapped air) when the waterline is charging; (l) at least 500 feet of fire hose will be kept at the following three strategic locations: (i) Slope belt head house (Top of the slope belt); (ii) #11 seam dump point (Approximately 950 feet down the slope); (iii) #9 seam dump point (Located at the bottom of the slope), and additional fire hose will be kept at strategic locations if needed. The petitioner asserts that the proposed alternative method will provide a measure of protection to all miners at River View Mine greater than that of the standard.

Docket Number: M-2011-010-C.

Petitioner: Brooks Run Mining Company, LLC, 208 Business Street, Beckley, West Virginia 25801.

Mine: Still Run No. 3 Mine, MSHA Mine I.D No.46-09301, located in Wyoming County, West Virginia.

Regulation Affected: 30 CFR 75.1101-1(b) (Deluge-type water spray systems).

Modification Request: The petitioner requests a modification of the existing standard to permit deluge-type water spray systems to be used without blow-off dust covers on the nozzles. The petitioner states that: (1) Currently, each nozzle is provided with a blow-off dust cover; (2) weekly inspections and functional tests of its complete deluge-type water spray system are currently being conducted at the mine; (3) due to frequent inspections and functional testing of the system, the dust covers are not necessary because the nozzles can be maintained in an unclogged condition through weekly use; (4) it is burdensome to recap the large number of covers weekly after each inspection and functional test. The petitioner proposes to continue its weekly inspection and functional testing of the complete deluge-type water spray system, and to remove the blow-off dust covers from the nozzles. The petitioner asserts that the proposed alternative method will at all times guarantee no less than the same measure of protection afforded the miners as would be provided by the existing standard.

Docket Number: M-2011-011-C.

Petitioner: Highland Mining Company, LLC, 530 French Road, Waverly, Kentucky.

Mine: Highland No. 9 Mine, MSHA Mine I.D No. 15-02709, located in Union County, Kentucky.

Regulation Affected: 30 CFR 75.1100-2(b) (Quantity and location of firefighting equipment).

Modification Request: The petitioner requests a modification of the existing standard to permit the use of a dry waterline system to provide fire suppression in the slope area of the Highland No. 9 Mine to ensure the availability of water during freezing and subfreezing weather conditions and to prevent damage to the waterline and related firefighting equipment caused by freezing and subfreezing conditions during cold weather seasons. The petitioner proposes to establish, by designation, a dry waterline system with manual water-charging capabilities in the slope area to prevent water contained in the otherwise charged waterline from freezing, thereby preventing water from flowing through the waterline during an emergency, or otherwise damaging the waterline and related firefighting equipment that may be connected to the waterline from expansion of ice during freezing and subfreezing conditions. The petitioner states that: (1) The area to be serviced by the dry waterline system is from the surface mouth of the slope to the slope bottom; (2) areas of the mine in the designated terminus of the dry waterline system at the slope bottom will continue to be serviced by a charged waterline as currently installed and maintained; (3) in order to provide fire protection in the area designated as the dry waterline system, the following procedures will apply when the dry waterline system is in use: (a) the slope beltline will be monitored by a carbon monoxide (CO) detection system. A person trained in the operation of the CO detection system will be on duty at all times when employees are underground; (b) all hoistmen, surface electricians, belt mechanics, and surface equipment operators will be trained in the location and operation procedures of valves and pumps necessary to pressurize the waterline in the slope, should pressurization become necessary during an emergency; and (c) 300 feet of water hose, nozzles, and wrenches will be stored at the mouth of the slope (surface) on the emergency landing and at the bottom of the slope; (4) there are no belt drives located between the slope mouth at the surface and the slope bottom in the area designated as a dry waterline system; (5) there will be a limit of five minutes elapsed time from actuation of the fire detection device to full water pressurization of such dry waterline, and it will meet flow and pressure requirements. Activation of the waterline will be accomplished by energizing the pressure pump and opening a valve designated as point “A”, and by closing a drain line and opening a valve at the slope mouth designated as point “B”; (6) a gauge will be provided to indicate that a supply of water under pressure is available to the dry waterline; (7) to prevent freezing, ice, or slush accumulations which could block the waterline, the dry waterline will be drained or purged after use, charged or tested, or it will be maintained with a low-pressure water-flow sufficient to prevent it from freezing. All valves will likewise be protected; (8) sufficient water will be available at all times to adequately charge and supply the needs of the dry waterline; (9) each dry waterline pressurization system will be visually inspected weekly and a test of the electrical and mechanical functions of the system will be conducted monthly. The dry waterline will be pressurized during the monthly tests; and (10) this petition is only applicable to seasonal periods in which temperatures below 32 degrees Fahrenheit may be anticipated. The petitioner asserts that the proposed alternative method will not result in a diminution of safety to the miners.

Docket Number: M-2011-002-M.

Petitioner: U.S. Silver Idaho, Inc., 1801 California Street, Suite 4900, Denver, Colorado 80202.

Mine: Galena Mine, MSHA Mine I.D No. 10-00082, located in Shoshone County, Idaho.

Regulation Affected: 30 CFR 57.9300(a) (Berms and guardrails).

Modification Request: The petitioner requests a modification of the existing standard to permit an alternative method of compliance as it applies to providing guardrails for a pond at the banks of the roadway where a drop off exists of sufficient grade or depth to cause a vehicle to overturn or endanger persons in equipment. The petitioner states that: (1) Installing a berm around the tailings dam during construction of the lift for the impoundment would cause workers to compact the road surrounding the road from edge to edge to ensure the integrity of the impoundment and the road surrounding it; (2) the compaction of material to 90 percent density is performed by a cat loader and an end dump and is specifically required by a permit issued by the State of Idaho Department of Water Resources Dam Safety Division. This state agency comes to the mine to inspect the lift to ensure compliance with the permit; (3) after proper compaction is achieved a berm is installed on the outside edge of the subject road but not the side closest to the impoundment. Placing a berm on either side of the subject road prior to achieving required compaction would compromise the structural integrity of the embankment. In addition, placing a berm on the inside of the subject road would lift the tailings distribution lines approximately three feet in elevation and could result in enough head loss in the line to cause a tailings spill upstream of the impoundment. A tailings spill upstream of the impoundment would report directly to Shields Creek below the Coeur Mill. Lack of compaction would also cause an obvious hazard to anyone driving on the road, as the relatively uncompacted road could give way under the weight of the equipment. As required by the permit, the tailings distribution point is frequently changed in order to ensure proper distribution of tailings against the dam. If there was an earthen berm installed on the inside of the roadway, the berm would have to be breached each time the distribution point is changed. As such, current application of the standard, requiring a berm around the tailings pond will result in a diminution of safety for miners at the Galena Mine. The petitioner proposes that: (1) A locked gate is installed at the only entrance point to the roadway; (2) signs are posted warning that the roadway is not bermed; (3) the maximum speed limit of 15 miles per hour is posted, and speed limit signs will be posted at appropriate entrance locations to the impoundment roadway; (4) no operations will be conducted on the road when road traction may be impacted by weather conditions, unless corrective measures, such as the use of tire chains, plowing, or sanding are taken to improve traction; (5) a pipeline will be located on the inside edge of the impoundment roadway to serve as a guide for mobile vehicle operations. Delineators will be used along the perimeter of areas of the roadway where no pipeline was laid and there was a drop-off sufficient for equipment to overturn. Delineators are installed along the perimeter of the impoundment so that, for both directions of travel, the reflective surfaces of at least three delineators along each elevation will always be visible to the driver and spaced at intervals sufficient to indicate the edges and altitude of the roadway; (6) access to the locked gate will be limited to individuals who have received and successfully completed training consisting of applicable task training, and a supervised tour of the impoundment roadway. A training form will be completed for each employee that receives the training and will detail the topics covered in the training. Personnel deemed essential by the petitioner to operate equipment in the area who has not received the training will be accompanied by a person who has received the specified training. Training will be valid for four years from the date of completion; (7) records of the training will be maintained for four years and made available to MSHA upon request; and (8) to enable U.S. Silver to not berm the inside of the impoundment roadway not only prevents a diminution of safety for miners, it provides an alternative method of achieving the results of the standard which at all times guarantees no less than the same measure of protection to all miners at the Galena Mine afforded by the standard.

Dated: April 12, 2011.
Patricia W. Silvey,
Certifying Officer.

[FR Doc. 2011-9195 Filed 4-19-11; 8:45 am]

BILLING CODE 4510-43-P